DEPARTMENT OF THE INTERIOR

National Park Service

60-Day Notice of Intention to Request Clearance of Collection of Information; Opportunity for Public Comment

AGENCY: The Department of the Interior, National Park Service.

ACTION: Notice and request for comments.

SUMMARY: Under the provisions of the Paperwork Reduction Act of 1995 (Pub. L. 104-13, 44 U.S.C. 3507) and 5 CFR part 1320, Reporting and Record Keeping Requirements, the National Park Service (NPS) invites public comments on an extension of a currently approved collection of information (OMB 1024-0245).

DATES: Public comments on the Information Collection Request (ICR) will be accepted on or before June 15, 2007.

ADDRESSES: Send comments to Lieutenant Dennis Maroney, Assistant Commander Human Resources Office, United States Park Police, 1100 Ohio Drive, SW., Washington, DC 20024, or via e-mail at dennis_maroney@nps.gov. All responses to this notice will be summarized and included in the request for the Office of Management and Budget (OMB) approval. All comments will become a matter of public record.

FOR FURTHER INFORMATION CONTACT: Lieutenant Dennis Maroney, Assistant Commander Human Resources Office, United States Park Police, 1100 Ohio Drive, SW., Washington, DC 20024, via fax at 202-619-7479, or via e-mail at dennis_maroney@nps.gov or via telephone at 202-619-7413. You are entitled to a copy of the entire ICR package free of charge.

SUPPLEMENTARY INFORMATION: Title: United States Park Police Personal History Statements Questionnaire.

Bureau Form Number(s): USPP Form 1.

OMB Number: 1024-0245.

Expiration Date: 06/30/07.

Type of Request: Extension of a currently approved information collection.

Description of Need: Executive Order 12968 established investigative standards for all United States Government civilian and military personnel. 5 CFR 7.31 established criteria and procedures for making determinations of suitability for employment in positions in competitive service. The position of a Police Officer in the United States Park Police is critical sensitive. The purpose of the United States Park Police Personal History Statement Questionnaire is to collect detailed information that will be used principally as a basis for an investigation to determine suitable applicants for the position of United States Park Police Officer. This information has an impact on individuals that apply to the position of United States Park Police Officer. The NPS uses the information that is collected to hire adequately screened applicants for the position of United States Park Police Officer.

Comments Are Invited on: (1) The practical utility of the information being gathered; (2) the accuracy of the burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Frequency of Collection: Annually.

Description of Respondents: Individual applicants to the position of United States Park Police Officer.

Estimated Number of Respondents: 600.

Estimated Average Number of Applicant Responses: 600.

Estimated Average Burden Hours per Applicant Response: 8 hours.

Estimated Annual Burden Hours: 4,800 Hours.

Dated: January 12, 2007.
Leonard E. Stowe,
NPS, Information Collection Clearance Officer.

[FR Doc. 07-1862 Filed 4-13-07; 8:45 am]

BILLING CODE 4312-JK-M